DEPARTMENT OF DEFENSE

Department of the Navy

Meeting of the Board of Advisors to The Presidents of the Naval Postgraduate School and the Naval War College

AGENCY: Department of the Navy, DoD.

ACTION: Notice of open meeting.

SUMMARY: Pursuant to the provisions of the Federal Advisory Committee Act (Pub. L. 92-463, as amended), notice is hereby given that the following meeting of the Board of Advisors (BOA) to the Presidents of the Naval Postgraduate School (NPS) and the Naval War College (NWC) and its subcommittees will be held. This meeting will be open to the public.

DATES: The meeting will be held on Wednesday, October 17, 2012, from 8 a.m. to 4 p.m. and on Thursday, October 18, 201, from 8 a.m. to 3 p.m. Eastern Time Zone.

ADDRESSES: The meeting will be held at 900 N. Glebe Road, Arlington, VA.

FOR FURTHER INFORMATION CONTACT: Ms. Jaye Panza, Naval Postgraduate School, Monterey, CA, 93943-5001, telephone number 831-656-2514.

SUPPLEMENTARY INFORMATION: The agenda is as follows:

1. October 17, 2012: General deliberations and inquiry by the NPS BOA Subcommittee and its parent committee NPS/NWC BOA into the curricula; instruction; physical equipment; administration; state of morale of the student body, faculty, and staff; fiscal affairs; and any other matters relating to the operations of the NPS as the board considers pertinent. Discussions of the collaborative exchange and partnership between the NPS and the Air Force Institute of Technology.

2. October 18, 2012: General deliberations and inquiry by the NWC BOA Subcommittee and its parent committee NPS/NWC BOA into the curricula; instruction; physical equipment; administration; state of morale of the student body, faculty, and staff; fiscal affairs; and any other matters relating to the operations of the NWC as the board considers pertinent. Discussion of recently issued defense guidance and its implication for the military and Joint Professional Military Education; discussion of Leader Development Continuum, NWC's response to Vice Chief of Naval Operations charge to develop and provide oversight for a leader development continuum from accession through the entire sailor's career that focuses on the attributes, behaviors, and ethos of the Naval profession.

Individuals without a DoD Government Common Access Card require an escort at the meeting location. For access, information, or to send written comments regarding the NPS/NWC BOA contact Ms. Jaye Panza, Naval Postgraduate School, 1 University Circle, Monterey, CA 93943-5001 or by fax 831-656-3145 by September 15, 2012.

Dated: September 11, 2012.
D.G. Zimmerman,
Lieutenant Commander, Office of the Judge Advocate General, U.S. Navy, Alternate Federal Register Liaison Officer.

[FR Doc. 2012-22932 Filed 9-17-12; 8:45 am]

BILLING CODE 3810-FF-P